Title 3—

The President

Proclamation 7372 of November 8, 2000

National American Indian Heritage Month, 2000

By the President of the United States of America

A Proclamation

American Indians, Alaska Natives, and Native Hawaiians are a special part of the tapestry of our Nation's history. As keepers of a rich and ancient cultural heritage, Native Americans share with all of us the beauty of their art, the power of their songs, and the grace of their people. As individuals, they have distinguished themselves in virtually every field, from the arts to the sciences, from the world of sports to the world of commerce.

This month, we celebrate the culture and contributions of the first Americans. We also remember with sorrow the suffering they endured because of past Federal actions and policies that had long-term and often devastating consequences for Native Americans and their culture. But, as the new millennium dawns, there is reason for optimism. During my 1999 New Markets tour of the Pine Ridge reservation in South Dakota and my visit to the Navajo Nation in New Mexico in April of this year, I saw firsthand a strength of spirit and hope sweeping through Indian Country. The Vice President and I have worked with tribes to foster this hope—through economic development initiatives and improved education and health care.

We still have much to accomplish, however. While my Administration has worked hard to bridge the digital divide and bring the Information Superhighway to Indian Country, some areas still do not have telephone and power lines. We continue striving to provide American Indians with the tools they need to strengthen family and community life by fighting poverty, crime, alcohol and drug abuse, and domestic violence, and we are working with tribes to improve academic achievement and strengthen tribal colleges.

We are also seeking to ensure that tribal leaders have a voice equal to that of Federal and State officials in addressing issues of concern to all our citizens. I reaffirmed that commitment to tribal sovereignty and self-determination by issuing this month a revised Executive Order on Consultation and Coordination with Indian Tribal Governments. This order builds on prior actions and strengthens our government-to-government relationship with Indian tribes by ensuring that all Executive departments and agencies consult with Indian tribes and respect tribal sovereignty as the agencies consider policy initiatives that affect Indian communities.

This year, my Administration proposed the largest budget increase ever for a comprehensive Native American initiative for health care, education, infrastructure, and economic development. Just last month, as part of the Department of the Interior appropriations legislation, I signed into law one segment of this budget initiative that includes significant investments for school construction in Indian Country and the largest funding increase ever for the Indian Health Service. These are the kinds of investments that will empower tribal communities to address an array of needs and, ultimately, to achieve a better standard of living.

Back in 1994, when I first met with the tribal leaders of more than 500 Indian nations at the White House, I saw the strength and determination that have enabled Native Americans to overcome extraordinary barriers and protect their hard-won civil and political rights. Since then, by working together, we have established a new standard for Federal Indian policy—one that promotes an effective government-to-government relationship between the Federal Government and the tribes, and that seeks to ensure greater prosperity, self-reliance, and hope for all Native Americans. While we cannot erase the tragedies of the past, we can create a future where all of our country's people share in America's great promise.

NOW, THEREFORE, I, WILLIAM J. CLINTON, President of the United States of America, by virtue of the authority vested in me by the Constitution and laws of the United States, do hereby proclaim November 2000 as National American Indian Heritage Month. I urge all Americans, as well as their elected representatives at the Federal, State, local, and tribal levels, to observe this month with appropriate programs, ceremonies, and activities.

IN WITNESS WHEREOF, I have hereunto set my hand this eighth day of November, in the year of our Lord two thousand, and of the Independence of the United States of America the two hundred and twenty-fifth.

wj

[FR Doc. 00-29297

Filed 11-13-00; 8:45 am]

Billing code 3195-01-P